DEPARTMENT OF THE TREASURY

Office of Thrift Supervision

12 CFR Part 562

Regulatory Reporting Standards

CFR Correction

In Title 12 of the Code of Federal Regulations, parts 500 to 599, revised as of January 1, 2001, on page 168, § 562.4 is corrected by adding paragraph (c)(3) to read as follows:

§ 562.4 Audit of savings associations and saving association holding companies.

* * * * *

(c) * * *

(3) When the OTS requires the application of procedures agreed upon by the OTS for safety and soundness purposes, the Director shall identify the procedures to be performed. The Director shall also determine whether the agreed upon procedures were conducted and filed in a manner satisfactory to the OTS.

* * * * *

[FR Doc. C1-55510 Filed 6-22-01; 8:45 am]

BILLING CODE 1505-01-D